COMMITTEE FOR PURCHASE FROM PEOPLE WHO ARE BLIND OR SEVERELY DISABLED

Procurement List; Proposed Additions

AGENCY: Committee for Purchase From People Who Are Blind or Severely Disabled

ACTION: Proposed Additions to Procurement List.

SUMMARY: The Committee is proposing to add to the Procurement List commodities and a service to be furnished by nonprofit agencies employing persons who are blind or have other severe disabilities.

Comments Must be Received on or Before: February 26, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, all entities of the Federal Government (except as otherwise indicated) will be required to procure the commodities and service listed below from nonprofit agencies employing persons who are blind or have other severe disabilities. I certify that the following action will not have a significant impact on a substantial number of small entities. The major factors considered for this certification were:

1. The action will not result in any additional reporting, recordkeeping or other compliance requirements for small entities other than the small organizations that will furnish the commodities and service to the Government.

2. The action will result in authorizing small entities to furnish the commodities and service to the Government.

3. There are no known regulatory alternatives which would accomplish the objectives of the Javits-Wagner-O'Day Act (41 U.S.C. 46-48c) in connection with the commodities and service proposed for addition to the Procurement List. Comments on this certification are invited. Commenters should identify the statement(s) underlying the certification on which they are providing additional information.

The following commodities and service have been proposed for addition to Procurement List for production by the nonprofit agencies listed:

Commodities

Folder, Classification

7530-00-NIB-0548

7530-00-NIB-0549

7530-00-NIB-0550

7530-00-NIB-0551

7530-00-NIB-0552

7530-00-NIB-0555

7530-00-NIB-0556

7530-00-NIB-0557

NPA: The Clovernook Center for the Blind, Cincinnati, Ohio

Hose, Fire

4210-00-777-1591

4210-00-777-1592

4210-00-892-5494

4210-01-037-7031

4210-01-039-4855

4210-01-165-6597

4210-01-166-8122

4210-01-167-1061

NPA: The Oklahoma League for the Blind, Oklahoma City, Oklahoma

Plaques

9905-01-357-9983

9905-01-357-9984

9905-01-357-9985

9905-01-357-9986

9905-01-408-2270

9905-01-408-6049

9905-01-408-6051

NPA: Delaware Division for the Visually Impaired, New Castle, Delaware

Service

Administrative Services

U.S. Army Space and Missile Defense Command (SMDC), Huntsville, Alabama

NPA: Huntsville Rehabilitation Foundation, Huntsville, Alabama

G. John Heyer,
General Counsel.

[FR Doc. 01-2418 Filed 1-25-01; 8:45 am]

BILLING CODE 6353-01-P